INTERNATIONAL TRADE COMMISSION

[Investigation No. 337-TA-484]

In the Matter of Certain Machine Vision Systems, Parts and Components Thereof and Products Containing Same; Notice of a Commission Determination Not To Review an Initial Determination Terminating the Investigation on the Basis of a Settlement Agreement

AGENCY: International Trade Commission.

ACTION: Notice.

SUMMARY: Notice is hereby given that the U.S. International Trade Commission has determined not to review the presiding administrative law judge's (“ALJ's”) initial determination (“ID”) granting a joint motion to terminate the above-captioned investigation on the basis of a settlement agreement.

FOR FURTHER INFORMATION CONTACT: Timothy P. Monaghan, Esq., Office of the General Counsel, U.S. International Trade Commission, 500 E Street, SW., Washington, DC 20436, telephone 202-205-3152. Copies of all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation, which concerns allegations of unfair acts in violation of section 337 of the Tariff Act of 1930 in the importation and sale of certain machine vision systems, parts and components thereof and products containing same on January 13, 2003, based on a complaint filed by Cognex Corporation of Natick Massachusetts. 68 FR 1640. The respondents named in the notice of investigation are Nikon Corporation of Japan, Nikon Precision, Inc. of Belmont, CA, and Aval Data Corporation of Japan. Cognex's complaint alleged that respondents' products infringed claims of four patents held by Cognex.

On March 17, 2003, Cognex and respondents entered into a settlement agreement and on April 3, 2002, Cognex and respondents filed a joint motion to terminate the investigation on the basis of the settlement agreement. The Commission investigative attorney supported the joint motion.

On April 17, 2003, the presiding ALJ issued the subject ID (Order No. 5) granting the joint motion of Cognex and respondents to terminate the investigation on the basis of the settlement agreement. No party filed a petition to review the subject ID.

The authority for the Commission's determination is contained in section 337 of the Tariff Act of 1930, as amended (19 U.S.C. 1337), and in section 210.42 of the Commission's Rules of Practice and Procedure (19 CFR 210.42).

By order of the Commission.
Issued: May 7, 2003.
Marilyn R. Abbott,
Secretary.

[FR Doc. 03-11827 Filed 5-12-03; 8:45 am]

BILLING CODE 7020-02-P